DEPARTMENT OF HEALTH AND HUMAN SERVICES

National Institutes of Health

Center for Scientific Review; Amended Notice of Meeting

Notice is hereby given of a change in the meeting of the Molecular and Cellular Hematology Study Section, October 15, 2013, 08:00 a.m. to October 16, 2013, 06:00 p.m., Embassy Suites at the Chevy Chase Pavilion, 4300 Military Road NW., Washington, DC 20015 which was published in the Federal Register on September 16, 2013, 78 FR 56904-56905.

The meeting will be held at the National Institutes of Health, 6701 Rockledge Drive, Bethesda, MD 20892. The meeting will start on December 2, 2013 at 11:00 a.m. and end on December 4, 2013 at 6:00 p.m. The meeting is closed to the public.

Dated: October 25, 2013.
Anna Snouffer,
Deputy Director, Office of Federal Advisory Committee Policy.

[FR Doc. 2013-25759 Filed 10-29-13; 8:45 am]

BILLING CODE 4140-01-P